SECURITIES AND EXCHANGE COMMISSION

[Release No. IC-25147]

Notice of Applications for Deregistriation Under Section 8(f) of the Investment Company Act of 1940

August 31, 2001.

The following is a notice of applications for deregistration under section 8(f) of the Investment Company Act of 1940 for the month of August, 2001. A copy of each application may be obtained for a fee at the SEC's Public Reference Branch, 450 Fifth St., NW., Washington, DC 20549-0192 (tel. 202-942-8090). An order granting each application will be issued unless the SEC orders a hearing. Interested person may request a hearing on any application by writing to the SEC's Secretary at the address below and serving the relevant applicant with a copy of the request, personally or by mail. Hearing requests should be received by the SEC by 5:30 p.m. on September 26, 2001, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus, at (202) 942-0564, SEC, Division of Investment Management, Office of Investment Company Regulation, 450 Fifth Street, NW., Washington, DC 20549-0506.

Minn Shares Inc. [File No. 811-7744]

Summary: Applicant, a closed-end investment company, seeks an order declaring that it has ceased to be an investment company. Applicant has remaining assets of approximately $492,277, consisting primarily of liquid securities. Applicant will appoint a liquidating agent, who will liquidate the assets over a period of approximately three years and distribute the proceeds pro rata to applicant's shareholders. Distributions will be made to shareholders after payment of approximately $172,596 of outstanding debts and liquidation expenses. A special meeting of shareholders is scheduled for September 7, 2001 to approve applicant's liquidation. Applicant currently is not a party to any litigation or administration proceeding. Lawrence P. Grady, applicant's president and largest shareholder, is a party to an SEC enforcement action arising out of the SEC's examination of applicant. The application is submitted in connection with that proceeding.

Filing Dates: The application was filed on August 3, 2001. Applicant has agreed to file an amended application during the notice period, the substance of which is reflected in this notice.

Applicant's Address: 520 Diamond Lake Lane, Minneapolis, MN 55419.

Mutual Selection Fund, Inc. [File No. 811-2300]

Summary: Applicant seeks an order declaring that it has ceased to be an investment company. On July 2, 2001, applicant transferred its assets to Pearl Total Return Fund, a series of Pearl Mutual Funds, based on net asset value. Expenses of $39,276 incurred in connection with the reorganization were paid by Pearl Management Company, applicant's investment adviser.

Filing Dates: The application was filed on August 13, 2001, and amended on August 27, 2001.

Applicant's Address: 2610 Park Ave., PO Box 209, Muscatine, IA 52761.

Credit Suisse Warburg Pincus Small Company Value II Fund, Inc. [File No. 811-7375]

Summary: Applicant seeks an order declaring that it has ceased to be an investment company. On June 11, 2001, applicant transferred its assets to Credit Suisse Warburg Pincus Small Company Value Fund, a series of Credit Suisse Warburg Pincus Capital Funds, based on net asset value. Expenses of $122,129 incurred in connection with the reorganization were paid by applicant's investment adviser, Credit Suisse Asset Management, LLC.

Filing Date: The application was filed on August 16, 2001.

Applicant's Address: 466 Lexington Ave., New York, NY 10017.

Zero Gravity Funds [File No. 811-9787]

Summary: Applicant seeks an order declaring that it has ceased to be an investment company. On March 30, 2001, applicant made a liquidating distribution to its shareholders based on net asset value. Expenses of $10,950 incurred in connection with the liquidation will be paid by Zero Gravity Capital Management LLC, applicant's investment adviser.

Filing Date: The application was filed on August 6, 2001.

Applicant's Address: 400 Montgomery Street, 3rd Floor, San Francisco, CA 94104.

Dreyfus Global Bond Fund, Inc. [File No. 811-7085]

Summary: Applicant seeks an order declaring that it has ceased to be an investment company. On June 30, 2000, applicant made a final liquidating distribution to its shareholders based on net asset value. Expenses of $5,000 incurred in connection with the liquidation were paid by applicant's investment adviser, The Dreyfus Corporation.

Filing Date: The application was filed on July 31, 2001.

Applicant's Address: c/o The Dreyfus Corporation, 200 Park Avenue, New York, NY 10166.

Allegiance Investment Trust-American Value Fund [File No. 811-9185]

Summary: Applicant seeks an order declaring that it has ceased to be an investment company. On August 7, 2000, applicant transferred its assets to Van Deventer & Hoch American Value Fund, a series of Advisors Series Trust, based on net asset value. Applicant incurred no expenses in connection with the reorganization.

Filing Date: The application was filed on August 3, 2001.

Applicant's Address: 800 North Brand Boulevard, Suite 300, Glendale, CA 91203.

TD Waterhouse Family of Funds [File No. 811-9543]

Summary: Applicant seeks an order declaring that it has ceased to be an investment company. Applicant has never made a public offering of its securities and does not propose to make a public offering or engage in business of any kind.

Filing Dates: The application was filed on July 12, 2001, and amended on August 17, 2001.

Applicant's Address: P.O. Box 100, Toronto Dominion Centre, 26th Floor, Toronto Dominion Tower, 55 King Street West, Toronto, Ontario, Canada M5K 1A2.

Virtus Funds [File No. 811-6158]

Summary: Applicant seeks an order declaring that it has ceased to be an investment company. On February 27, 1998, each series of applicant transferred its assets to corresponding portfolios of Evergreen Municipal Trust, Evergreen Fixed Income Trust, Evergreen Money Market Trust and Evergreen Equity Trust based on net asset value. Applicant incurred no expenses in connection with the reorganization.

Filing Date: The application was filed on August 8, 2001.

Applicant's Address: Federated Investors Tower, Pittsburgh, PA 15222-3779.

SG Cowen Standby Tax-Exempt Reserve Fund, Inc. [File No. 811-4344]

Summary: Applicant seeks an order declaring that it has ceased to be an investment company. By May 31, 2001, all shareholders of applicant had voluntarily redeemed their shares at net asset value, except SG Cowen Asset Management, Inc. (“SGCAM”), applicant's investment adviser. SGCAM plans to redeem its shares in connection with the winding up of applicant's affairs. Applicant incurred no expenses in connection with the liquidation.

Filing Dates: The application was filed on July 25, 2001, and amended on August 14, 2001.

Applicant's Address: 560 Lexington Avenue, New York, NY 10022.

MuniHoldings California Insured Fund V, Inc. [File No. 811-9313]

Summary: Applicant, a closed-end management investment company, seeks an order declaring that it has ceased to be an investment company. On March 5, 2001, applicant transferred its assets to MuniHoldings California Insured Fund, Inc. based on net asset value. Each holder of applicant's auction market preferred stock (“AMPS”) received the equivalent number of newly-issued shares of an existing series of AMPS of the acquiring fund representing the same aggregate liquidation preference. Expenses of $261,031 incurred in connection with the reorganization were paid by applicant and the acquiring fund.

Filing Date: The application was filed on July 19, 2001.

Applicant's Address: 800 Scudders Mill Rd., Plainsboro, NJ 08536.

MuniHoldings Florida Insured Fund V [File No. 811-9331]

Summary: Applicant, a closed-end management investment company, seeks an order declaring that it has ceased to be an investment company. On March 5, 2001, applicant transferred its assets to MuniHoldings Florida Insured Fund based on net asset value. Each holder of applicant's auction market preferred stock (“AMPS”) received the equivalent number of newly-issued shares of an existing series of AMPS of the acquiring fund representing the same aggregate liquidation preference. Expenses of $276,084 incurred in connection with the reorganization were paid by applicant and Fund Asset Management, L.P., applicant's investment adviser.

Filing Date: The application was filed on July 19, 2001.

Applicant's Address: 800 Scudders Mill Rd., Plainsboro, NJ 08536.

MuniHoldings New Jersey Insured Fund IV, Inc. [File No. 811-9315]

Summary: Applicant, a closed-end management investment company, seeks an order declaring that it has ceased to be an investment company. On March 5, 2001, applicant transferred its assets to MuniHoldings New Jersey Insured Fund, Inc. based on net asset value. Each holder of applicant's auction market preferred stock (“AMPS”) received the equivalent number of newly created series of AMPS of the acquiring fund representing the same aggregate liquidation preference. Expenses of $258,468 incurred in connection with the reorganization were paid by applicant and Fund Asset Management, L.P., applicant's investment adviser.

Filing Date: The application was filed on July 19, 2001.

Applicant's Address: 800 Scudders Mill Rd., Plainsboro, NJ 08536.

MuniHoldings New York Insured Fund IV, Inc. [File No. 811-9317]

Summary: Applicant, a closed-end management investment company, seeks an order declaring that it has ceased to be an investment company. On March 5, 2001, applicant transferred its assets to MuniHoldings New York Insured Fund, Inc. on net asset value. Each holder of applicant's auction market preferred stock (“AMPS”) received the equivalent number of newly-issued shares of an existing series of AMPS of the acquiring fund representing the same aggregate liquidation preference. Expenses of $216,087 incurred in connection with the reorganization were paid by applicant and the acquiring fund.

Filing Date: The application was filed on July 19, 2001.

Applicant's Address: 800 Scudders Mill Rd., Plainsboro, NJ 08536.

Credit Suisse Institutional Strategic Global Fixed Income Fund, Inc. [File No. 811-8931]

Summary: Applicant seeks an order declaring that it has ceased to be an investment company. By December 21, 2000, all shareholders of applicant had voluntarily redeemed their shares at net asset value. Expenses of approximately $2,500 incurred in connection with the liquidation were paid by Credit Suisse Asset Management, LLC, applicant's investment adviser, or its affiliates.

Filing Dates: The application was filed on February 22, 2001, and amended on June 8, 2001, and August 9, 2001.

Applicant's Address: 466 Lexington Avenue, New York, NY 10017.

GTBD Fund, L.L.C. (Deauville Europe Fund, L.L.C.) [File No. 811-10225]

Summary: Applicant, a closed-end investment company, seeks an order declaring that it has ceased to be an investment company. Applicant has never made a public offering of its securities and does not propose to make a public offering or engage in business of any kind.

Filing Dates: The application was filed on June 15, 2001, and amended on August 16, 2001, and August 21, 2001.

Applicant's Address: One World Financial Center, 31st Floor, 200 Liberty St., New York, NY 10281.

Multistate Tax Exempt Unit Trust [File No. 811-2774]

Summary: Applicant, a unit investment trust, seeks an order declaring that it has ceased to be an investment company. By April 9, 2001, each series of applicant had distributed its assets to unitholders based on net asset value. As of August 24, 2001, applicant had 400 unitholders who have not presented their trust certificates for redemption. Applicant's trustee, the Bank of New York, is holding any unclaimed funds, which will escheat to each unitholder's state of residence after the applicable holding period. Applicant incurred no expenses in connection with the liquidation.

Filing Dates: The application was filed on May 18, 2001, and amended on August 24, 2001.

Applicant's Address: 90 State House Square, Hartford, CT 06103.

NSB Asset Fund, Inc. [File No. 811-10031]

Summary: Applicant, a closed-end investment company, seeks an order declaring that it has ceased to be an investment company. Applicant has never made a public offering of its securities and does not propose to make a public offering. Applicant will continue to operate as an unregistered real estate investment trust in reliance on section 3(c)(1) of the Act.

Filing Dates: The application was filed on July 3, 2001, and amended on August 27, 2001.

Applicant's Address: One South Main, Suite 1380, Salt Lake City, UT 84111.

Morgan Stanley Dean Witter World Wide Income Trust [File No. 811-5744]

Summary: Applicant seeks an order declaring that it has ceased to be an investment company. On March 31, 2001, applicant transferred its assets to Morgan Stanley Diversified Income Trust based on net asset value. Expenses of $137,000 incurred in connection with the reorganization were paid by applicant.

Filing Date: The application was filed on July 23, 2001.

Applicant's Address: Two World Trade Center, 70th Floor, New York, NY 10048.

A.G. Series Trust [File No. 811-03050]

Summary: Applicant seeks an order declaring that it has ceased to be an investment company. At the time of filing, Applicant had distributed all of its shares at net asset value to its shareholders in connection with Applicant's liquidation. There were no expenses incurred in connection with the liquidation.

Filing Dates: The application was filed on June 7, 2001, and amended on July 19, 2001.

Applicant's Address: 2929 Allen Parkway, Houston, Texas 77019.

Templeton Variable Annuity Fund [File No. 811-5024]

Summary: Applicant seeks an order declaring that it has ceased to be an investment company. On May 8, 1998, applicant transferred its assets to Templeton Stock Fund based on net asset value. Expenses of $20,946 incurred in connection with the reorganization were paid by Templeton Variable Annuity Fund and Templeton Stock Fund.

Filing Date: The application was filed on June 20, 2001.

Applicant's Address: 500 East Broward Boulevard, Suite 2100, Fort Lauderdale, Florida 33394-3091.

For the Commission, by the Division of Investment Management, pursuant to delegated authority.
Jonathan G. Katz,
Secretary.

[FR Doc. 01-22508 Filed 9-6-01; 8:45 am]

BILLING CODE 8010-01-M